DEPARTMENT OF ENERGY

Office of Energy Efficiency and Renewable Energy

Workforce Guidelines for Home Energy Upgrades

AGENCY: Office of Energy Efficiency and Renewable Energy, U.S. Department of Energy.

ACTION: Notice of availability; request for comments.

SUMMARY: The U.S. Department of Energy Office of Energy Efficiency and Renewable Energy (EERE) announces the availability of a set of Standard Work Specifications (SWSs), Job Task Analyses (JTAs) and essential Knowledge, Skills and Abilities (KSAs) applicable to energy efficiency retrofits of single family homes which together constitute the Workforce Guidelines for Home Energy Upgrades (“Workforce Guidelines”). These Workforce Guidelines are intended for voluntary adoption by the Weatherization Assistance Program, EPA Home Performance with Energy Star program partners, State, municipal and utility ratepayer-funded energy efficiency retrofit programs, and private sector home performance contractors, as well as any other organization, company, or individual involved in energy efficiency retrofits of residential homes. Through this notice, DOE also requests public comments on the Workforce Guidelines.

DATES: Comments on the Workforce Guidelines for Home Energy Upgrades must be received by 5 p.m. Eastern Time on Friday, January 7, 2011.

ADDRESSES: A draft of the Workforce Guidelines is available for review and public comment online at: http://www.weatherization.energy.gov/retrofit_guidelines.

You may also submit comments by any of the following methods:

• Federal eRulemaking Portal: http://www.regulations.gov. Follow the instructions for submitting comments.

• Via Internet: http://www.weatherization.energy.gov/retrofit_guidelines.

• By e-mail: retrofit.guidelines@nrel.gov.

• By mail: Retrofit Guidelines, National Renewable Energy Laboratory, 1617 Cole Blvd., Golden, CO 80401-3305.

For further information on how to submit comments, please see the SUPPLEMENTARY INFORMATION section.

FOR FURTHER INFORMATION CONTACT: Benjamin Goldstein, Weatherization and Intergovernmental Programs, Mailstop EE-2K, Office of Energy Efficiency and Renewable Energy, U.S. Department of Energy, 1000 Independence Avenue SW., Washington, DC 20585. Phone number: (202) 287-1553. E-mail: retrofit.guidelines@nrel.gov.

Kavita M. Patel, U.S. Department of Energy, Office of the General Counsel, Forrestal Building, GC-71, 1000 Independence Avenue SW., Washington, DC 20585. Phone number: (202) 586-0669. E-mail: kavita.patel@hq.doe.gov.

SUPPLEMENTARY INFORMATION: EERE has tasked the National Renewable Energy Laboratory with developing a suite of voluntary national guidelines for the work and workforce involved in home energy upgrades. The Workforce Guidelines build upon the considerable body of material already in circulation and the cumulative knowledge gathered throughout the 30-year history of the energy efficiency retrofit industry.

The effort to develop the Workforce Guidelines for Home Energy Upgrades has its origins in and is supported by the Weatherization Assistance Program (WAP) Training and Technical Assistance Plan (T&TA). The T&TA plan seeks to ensure that Recovery Act investments help lay a permanent foundation for a stronger WAP. This foundation could also provide WAP workers hired to support Recovery Act implementation with future employment opportunities in the rapidly expanding home performance industry.

Concurrently, in May 2009, the Vice President's Middle Class Task Force asked the White House Council on Environmental Quality (CEQ) to develop recommendations for Federal action to lay the architecture for a self-sustaining home energy efficiency retrofit industry. In response, CEQ facilitated a broad interagency process that resulted in the development of six recommendations described in detail in a report titled Recovery Through Retrofit.¹ These recommendations were carefully crafted to stimulate the growth of a vibrant, private sector-led market for residential energy efficiency retrofits.

¹ http://www.whitehouse.gov/sites/default/files/Recovery_Through_Retrofit_Final_Report.pdf (last visited Oct. 7, 2010).

The Recovery Through Retrofit Workforce Working Group—which includes DOE, the Department of Labor, the Environmental Protection Agency (EPA), the Department of Education, the Small Business Administration, and other agencies—identified the lack of a skilled and credentialed workforce as a key barrier to scaling up the residential energy efficiency retrofit market. The report recommended establishing a set of national guidelines to promote high-quality energy efficiency retrofit work. DOE developed the Workforce Guidelines in response to this recommendation.

The process of developing the Workforce Guidelines has involved a historic collaboration between WAP practitioners and trainers, home performance contractors, building scientists, organized labor, healthy homes and worker safety experts, and other professionals in the building trades and throughout the retrofit industry.

The first iteration of the development process involved 60 technical experts and resulted in a first draft of 270 pages of SWSs. A second group of 80 technical experts thoroughly reviewed and edited the draft SWSs, including a WAP programmatic review, 6 climate-specific reviews, a healthy homes review coordinated by the EPA, and a worker health and safety review coordinated by Department of Labor. While development of the SWSs was moving forward, 50 retrofit technicians and trainers from around the country conducted a professionally-facilitated workshop to develop the Job Task Analyses and Essential KSAs for the four most common home energy retrofit job classifications: Energy Auditor, Installer/Technician, Crew Chief, and Quality Assurance Professional/Inspector.

• The Workforce Guidelines consist of four components: Standard Work Specifications, a Technical Standards Reference Guide, Job Task Analyses and Knowledge, Skills, and Abilities.

• Standard Work Specifications define the minimum requirements for high quality energy efficiency retrofit work and the conditions necessary to achieve the desired outcomes of a given retrofit measure.

• Technical Standards are standards, regulations and codes developed by government, industry or third-party standards development organizations— such as OSHA, EPA, the American Society of Heating, Refrigerating and Air-Conditioning Engineers (ASHRAE), ASTM International, and the Building Performance Institute—that define the safety, materials, installation, and application standards relevant to residential building energy efficiency retrofits.

• Job Task Analyses identify and catalog all of the tasks a given worker typically performs when completing a suite of energy efficiency improvements in a home.

• Essential KSAs identify the minimum knowledge, skills, and abilities that a skilled worker should possess to perform high quality energy efficiency retrofit work for the given occupation or job level.

The Standard Work Specifications are organized by section, corresponding to the different systems found in residential buildings. Within each section are subtopics and details that contain the critical specification that must be achieved to ensure quality work. Throughout the Standard Work Specifications document are footnotes referring to the relevant Technical Standards, which are then summarized in Appendix D.

The Job Task Analyses and Essential Knowledge Skills and Abilities are made up of “Content Outlines” for the four common energy efficiency retrofit job classifications. They were developed by professional psychometricians working with experienced technicians from WAP, the residential energy efficiency retrofit contractor community, and organized labor. The Content Outlines provide a detailed inventory of the minimum knowledge, skills and abilities (both cognitive and psychomotor) that a worker should possess to perform high quality energy efficiency retrofit work.

Once finalized, the Workforce Guidelines will:

1. Enable State and local WAP officials and other residential retrofit program administrators to strengthen their field guides and other work manuals by incorporating the high quality SWSs contained in the Workforce Guidelines.

2. Assist training providers in developing course content and curricula consistent with an industry-recognized suite of Job Task Analyses.

3. Increase workforce mobility up career ladders and across career lattices by establishing a clear set of essential KSAs upon which worker credentials should be based.

4. Build confidence among consumers and the energy efficiency finance community that retrofit work will be completed in a quality manner and produce the expected energy savings and health benefits.

5. Lay the foundation for a more robust worker certification and training program accreditation architecture.

In coordination with the DOE-led effort, the EPA has developed a keystone document pertaining to health considerations in residential energy efficiency upgrades. These EPA Healthy Indoor Environment Protocols for Home Energy Upgrades and the DOE Workforce Guidelines were developed in conjunction with one another and are complementary. Both are intended to provide a set of voluntary measures that the WAP and other energy efficiency retrofit efforts can adopt to increase the quality of the retrofit work performed while maintaining or improving the health and safety of the occupant(s).

Together, the DOE and EPA documents will: provide a robust and practical set of resources for retrofit contractors, trainers, and program administrators; help improve the quality of the work performed in this expanding industry; promote occupant health and safety; and drive consumer demand for energy efficiency retrofit services. DOE encourages reviewers of the Workforce Guidelines with a specific interest in healthy indoor environments to also review and comment on the EPA document, available at: http://www.epa.gov/iaq/homes/retrofits.html.

Issues on Which DOE Seeks Comment

DOE is particularly interested in receiving comments and views of interested parties on the following issues:

• The appropriateness of each of the Standard Work Specifications, both at the chapter level and at the individual task level.

• The citations of technical standards referenced in the Standard Work Specifications.

• The tasks, knowledge skills and abilities identified for the four (4) job descriptions.

Submission of Comments

DOE will accept comments, data, and information regarding the proposed guidelines no later than January 7, 2011. If submitting comments via the DOE Web page, please follow all instructions on the Web page: http://www.weatherization.energy.gov/retrofit_guidelines. This Web site is specifically designed for ease of use to facilitate the public comment process. DOE will transfer comments received on our Web site to Regulations.gov for public review.

Comments, data, and information uploaded to Regulations.gov, or submitted via DOE's e-mail address or regular mail should be provided in WordPerfect, Microsoft Word, PDF, or text (ASCII) file format. Interested parties should avoid the use of special characters or any form of encryption, and wherever possible, comments should include the electronic signature of the author. Comments, data, and information submitted to DOE via regular mail may include one signed paper original.

According to 10 CFR 1004.11, any person submitting information that he or she believes to be confidential and exempt by law from public disclosure should submit two copies: One copy of the document including all the information believed to be confidential, and one copy of the document that does not include the information believed to be confidential. DOE will make its own determination as to the confidential status of the information and treat it according to its determination.

Factors of interest to DOE when evaluating requests to treat submitted information as confidential include:

(1) A description of the items;

(2) Whether and why such items are customarily treated as confidential within the industry;

(3) Whether the information is generally known by or available from other sources;

(4) Whether the information has previously been made available to others without obligation concerning its confidentiality;

(5) An explanation of the competitive injury to the submitting person which would result from public disclosure;

(6) A date upon which such information might lose its confidential nature due to the passage of time; and

(7) Why disclosure of the information would be contrary to the public interest.

Issued in Washington, DC, on November 4, 2010.
Cathy Zoi,
Acting Under Secretary of Energy, Assistant Secretary for Energy Efficiency and Renewable Energy.

[FR Doc. 2010-28289 Filed 11-8-10; 8:45 am]

BILLING CODE 6450-01-P